DEPARTMENT OF HEALTH AND HUMAN SERVICES

Agency for Healthcare Research and Quality

Supplemental Evidence and Data Request on Mental Health and Occupational Stress in the Emergency Medical Service and 911 Workforce

AGENCY: Agency for Healthcare Research and Quality (AHRQ), HHS.

ACTION: Request for supplemental evidence and data submissions.

SUMMARY: The Agency for Healthcare Research and Quality (AHRQ) is seeking scientific information submissions from the public. Scientific information is being solicited to inform our review on Mental Health and Occupational Stress in the Emergency Medical Service and 911 Workforce, which is currently being conducted by the AHRQ's Evidence-based Practice Centers (EPC) Program. Access to published and unpublished pertinent scientific information will improve the quality of this review.

DATES: Submission Deadline on or before November 3, 2023.

ADDRESSES:

Email submissions: epc@ahrq.hhs.gov.

Print submissions:

Mailing Address: Center for Evidence and Practice Improvement, Agency for Healthcare Research and Quality, ATTN: EPC SEADs Coordinator, 5600 Fishers Lane, Mail Stop 06E53A, Rockville, MD 20857

Shipping Address (FedEx, UPS, etc.): Center for Evidence and Practice Improvement, Agency for Healthcare Research and Quality, ATTN: EPC SEADs Coordinator, 5600 Fishers Lane, Mail Stop 06E77D, Rockville, MD 20857

FOR FURTHER INFORMATION CONTACT: Kelly Carper, Telephone: 301-427-1656 or Email: epc@ahrq.hhs.gov.

SUPPLEMENTARY INFORMATION: The Agency for Healthcare Research and Quality has commissioned the Evidence-based Practice Centers (EPC) Program to complete a review of the evidence for Mental Health and Occupational Stress in the Emergency Medical Service and 911 Workforce. AHRQ is conducting this review pursuant to Section 902 of the Public Health Service Act, 42 U.S.C. 299a.

The EPC Program is dedicated to identifying as many studies as possible that are relevant to the questions for each of its reviews. In order to do so, we are supplementing the usual manual and electronic database searches of the literature by requesting information from the public (e.g., details of studies conducted). We are looking for studies that report on Mental Health and Occupational Stress in the Emergency Medical Service and 911 Workforce. The entire research protocol is available online at: https://effectivehealthcare.ahrq.gov/products/ems-911-workforce-mental-health/protocol.

This is to notify the public that the EPC Program would find the following information on Mental Health and Occupational Stress in the Emergency Medical Service and 911 Workforce helpful:

A list of completed studies that your organization has sponsored for this topic. In the list, please indicate whether results are available on ClinicalTrials.gov along with the ClinicalTrials.gov trial number.

For completed studies that do not have results on ClinicalTrials.gov, a summary, including the following elements, if relevant: study number, study period, design, methodology, indication and diagnosis, proper use instructions, inclusion and exclusion criteria, primary and secondary outcomes, baseline characteristics, number of patients screened/eligible/enrolled/lost to follow-up/withdrawn/analyzed, effectiveness/efficacy, and safety results.

A list of ongoing studies that your organization has sponsored for this topic. In the list, please provide the ClinicalTrials.gov trial number or, if the trial is not registered, the protocol for the study including, if relevant, a study number, the study period, design, methodology, indication and diagnosis, proper use instructions, inclusion and exclusion criteria, and primary and secondary outcomes.

Description of whether the above studies constitute ALL Phase II and above clinical trials sponsored by your organization for this topic and an index outlining the relevant information in each submitted file.

Your contribution is very beneficial to the Program. Materials submitted must be publicly available or able to be made public. Materials that are considered confidential; marketing materials; study types not included in the review; or information on topics not included in the review cannot be used by the EPC Program. This is a voluntary request for information, and all costs for complying with this request must be borne by the submitter.

The draft of this review will be posted on AHRQ's EPC Program website and available for public comment for a period of 4 weeks. If you would like to be notified when the draft is posted, please sign up for the email list at: https://www.effectivehealthcare.ahrq.gov/email-updates.

The review will answer the following questions. This information is provided as background. AHRQ is not requesting that the public provide answers to these questions.

Key Questions (KQ)

KQ 1: What are the incidence, prevalence, and severity of mental health issues (depression, anxiety, PTSD, suicidality, and substance use disorders) and occupational stress issues (burnout, stress, and moral injury) among the EMS and the 911 workforce?

a. Are the incidence, prevalence, and severity modified by:

i. Agency composition including workflow, regulations, financing?

ii. Characteristics of EMS and 911 personnel (e.g., education/training, proficiency, experience, trauma exposure)?

iii. Physical and mental health resources?

KQ 2: What are the effectiveness and comparative effectiveness, including benefits and harms, of interventions addressing mental health issues (depression, anxiety, PTSD, suicidality, and substance use disorders) and occupational stress issues (burnout, stress, and moral injury) among the EMS and 911 workforce?

a. Are the effectiveness of the interventions modified by:

i. Intervention type?

ii. Characteristics of EMS and 911 personnel (e.g., education/training, proficiency, experience)?

iii. EMS/911 agency characteristics including workflow, regulations, financing?

iv. Physical and mental health resources?

KQ 3: What are the context and implementation factors of studies with effective EMS/911 workforce practices to prevent, recognize and treat mental health issues (depression, anxiety, PTSD, suicidality, and substance use disorders) and occupational stress issues (burnout, stress, and moral injury)? This description might include distinguishing factors such as workforce training, surveillance, resilience training, occupational health services, peer-to-peer support, preparedness for trauma exposure, and program funding.

KQ 4: What future research is needed to close existing evidence gaps regarding preventing, recognizing, and treating mental health issues (depression, anxiety, PTSD, suicidality, and substance use disorders) and occupational stress issues (burnout, stress, and moral injury) in the EMS/911 workforce?

BILLING CODE 4160-90-P

Dated: September 28, 2023.
Marquita Cullom,
Associate Director.

[FR Doc. 2023-21915 Filed 10-3-23; 8:45 am]

BILLING CODE 4160-90-C